DEPARTMENT OF THE INTERIOR

Bureau of Indian Affairs

[156A2100DD.AADD001000.A0E501010.999900]

Indian Education Study Group

AGENCY: Bureau of Indian Affairs, Interior.

ACTION: Tribal consultation meetings.

SUMMARY: The Bureau of Indian Education (BIE) will be conducting consultation meetings to obtain oral and written comments on the restructuring of the BIE. The consultation meetings are a continuation of tribal consultations conducted by the Department of the Interior and the Department of Education in 2014.

DATES: See the SUPPLEMENTARY INFORMATION section of this document for dates of tribal consultation sessions. We will consider all comments received by May 15, 2015, 5 p.m., Eastern Daylight Time.

ADDRESSES: See the SUPPLEMENTARY INFORMATION section of this document for the locations of these tribal consultation sessions. Submit comments by mail or hand-deliver written comments to: Jacquelyn Cheek, Special Assistant to the Director, Bureau of Indian Education, 1849 C Street NW., Mailstop 4657-MIB, Washington, DC 20240; facsimile: (202) 208-3112; or email to: IAEDTC-CMTS@bia.gov.

FOR FURTHER INFORMATION CONTACT: Jacquelyn Cheek, Special Assistant to the Director, Bureau of Indian Education, telephone: (202) 208-6983.

SUPPLEMENTARY INFORMATION: Tribal consultation sessions on the BIE Restructuring will be held on the following dates and at the following locations:

Date | Time | Location
Wednesday, April 22 | 8:00 a.m.-5:00 p.m. (Central Time) | Ramkota Inn, 2111 N. Lacrosse Street, Rapid City, SD.
Friday, April 24 | 8:00 a.m.-5:00 p.m. (Eastern Time) | United South and Eastern Tribes Headquarters, 711 Stewarts Ferry Pike, Nashville, TN.
Monday, April 27 | 8:00 a.m.-5:00 p.m. (Mountain Time) | Navajo Department of Transportation, #16 Old Coalmine Road, Window Rock, AZ.
Wednesday, April 29 | 8:00 a.m.-5:00 p.m. (Mountain Time) | Webinar: Go to https://dcma100.webex.com/dcma100/k2/j.php?MTID=t3ece866d3bf09b04cc1ecd2b63ba7b27. Call-in number: 1-877-937-9783. Participant Code: 4504177.

Consultation information for this set of consultations will be available on the BIE Web site at http://bie.edu/cs/groups/webteam/documents/document/idc1-029478.pdf.

As required by 25 U.S.C. 2011(b), the purpose of consultation is to provide Indian tribes, school boards, parents, Indian organizations and other interested parties with an opportunity to comment on the implementation plan developed following the submittal of the American Indian Study Group's Blueprint for Reform and the Secretarial Order 3334. The consultation will cover issues raised during the previous consultation meetings and are being considered by the BIE on Indian education programs.

Dated: March 19, 2015.
Kevin K. Washburn,
Assistant Secretary—Indian Affairs.

[FR Doc. 2015-06814 Filed 3-20-15; 4:15 pm]

BILLING CODE 4310-6W-P